DEPARTMENT OF HOMELAND SECURITY

Transportation Security Administration

Intent To Request Renewal From OMB of One Current Public Collection of Information: Registered Traveler Pilot (RT) Pilot Program; Satisfaction and Effectiveness Measurement Data Collection Instruments

AGENCY: Transportation Security Administration, DHS.

ACTION: Notice.

SUMMARY: The Transportation Security Administration (TSA) invites public comment on one currently approved information collection requirement abstracted below that we will submit to the Office of Management and Budget (OMB) for renewal in compliance with the Paperwork Reduction Act.

DATES: Send your comments by September 18, 2006.

ADDRESSES: Comments may be mailed or delivered to Katrina Wawer, Attorney-Advisor, Office of the Chief Counsel, TSA-2, Transportation Security Administration, 601 South 12th Street, Arlington, VA 22202-4220.

FOR FURTHER INFORMATION CONTACT: Katrina Wawer at the above address, or by telephone (571) 227-1995 or facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0019; Registered Traveler Pilot (RT) Pilot Program; Satisfaction and Effectiveness Measurement Data Collection Instruments. TSA is expanding the scope of the Registered Traveler (RT) Pilot Program, which is currently in operations at one airport and is already approved by OMB, to test and evaluate specific technologies and business processes related to the RT concept. In addition, TSA will add additional locations using the RT Pilot Program's public/private partnership. For the purpose of continuing metrics analysis, testing interoperability of systems, and testing the private/public model of operations, TSA sought emergency processing from OMB in order to begin collecting information in June 2006. OMB issued its temporary approval on June 12, 2006, and TSA is now seeking to renew the RT Pilot Program's control number.

TSA will receive and retain personal information on individuals who volunteer to participate in the program that Sponsoring Entities (i.e., airport authorities and/or aircraft operators under agreement with TSA to conduct RT operations) will collect and transmit through a Central Information Management System (CIMS), which will be under contract with TSA. This information will allow TSA to complete and adjudicate name-based security threat assessments and allow Sponsoring Entities to issue an RT card to approved applicants.

In addition, TSA will administer two instruments, which OMB previously approved, to measure the satisfaction of RT pilot participants and key stakeholders. TSA will administer the first instrument, customer service surveys, electronically via the TSA Web site. TSA estimates the hour burden for the surveys to be 72,000 hours, based on 288,000 respondents and a 15-minute burden per respondent. The second instrument, stakeholder interviews, will be used by TSA to periodically conduct in person interviews to ensure that stakeholders' issues are fully addressed and to facilitate accurate assessments of local concerns. Stakeholders include representatives of participating airports, air carriers, vendor staff, and relevant associations, as well as Federal Security Directors and their staff. TSA estimates the hour burden for the stakeholder interviews to be 120 hours, based on 6-8 interviews per location (not including TSA employees) and a 45-minute burden per interview.

Finally, in order for TSA to further develop the Registered Traveler Pilot Program, it is seeking to expand the information collection to include two additional categories of respondents: (1) Companies wishing to serve as Service Providers (i.e., companies procured by the Sponsoring Entities to implement RT services); and (2) Airport authorities and aircraft operators wishing to participate in Registered Traveler.

Companies Wishing To Serve as Service Providers

If a company wishes to serve as a Service Provider for the Registered Traveler Pilot Program, it will have to undergo a process to confirm that it is a legitimate business that does not pose or is suspected of posing a threat to transportation or national security.¹ TSA has determined that the most effective way to pre-qualify companies seeking participation in Registered Traveler is to collect basic financial information about the company and to conduct security threat assessments (including fingerprint-based criminal history records check) on the company's (including its subcontractors) key personnel.² TSA estimates that up to 12 companies will wish to serve as an enrollment and/or verification provider and will need to provide information for the process. These 12 companies will have to submit general information (organization, legal, and ownership) about themselves so that TSA may conduct a security threat assessment to confirm that they do not pose, or are not suspected of posing, a threat to transportation or national security. TSA estimates that each company will take up to 12 hours to provide TSA with this information. Therefore, TSA estimates that the total hour burden for providing this general company information to be 144 hours [12 companies × 12 hours per company].

¹ An RT Service Provider can be: (1) An Enrollment Provider (EP) that collects the biographic and biometric information from RT applicants, collects user fees from RT applicants, and issues RT cards to RT participants; (2) a Verification Provider (VP) that verifies the identity of the RT participant in the airport in accordance with TSA-issued RT standards; or (3) a combined Enrollment and Verification Provider. The term “Service Provider” is used in this document as a term of collective reference to RT vendors of all three categories.

² Key personnel are defined as: (1) Officers, principals, and program managers responsible for RT operations; and (2) all employees that collect, handle or use RT applicant or participant data.

TSA will also collect personally identifying information about company key personnel (such as name, contact information, and date of birth) in order to conduct security threat assessments, including a fingerprint-based criminal history records checks. TSA estimates that this information will be collected for a maximum of 25 individuals per company and that providing this information will take about three hours per person. Therefore, TSA estimates that the maximum total hour burden for providing information on company officers and key personnel to be 900 hours [300 individuals (12 companies × 25 individuals per company) × 3 hours per individual].

Thus, TSA estimates the total hour burden for the company re-qualification process to be 1,044 hours [144 hours for general company information + 900 hours for information on company officers and key personnel].

Airport and Air Carrier Participation Approval

If an airport authority or aircraft operator wishes to participate in the Registered Traveler Pilot Program, TSA will require it to submit a Statement of Interest. TSA estimates that up to 50 entities will apply to participate and that it will take each airport one hour to prepare and submit its Statement of Interest. Therefore, TSA estimates the total burden hour for each entity seeking to participate in Registered Traveler to be 50 hours [50 airports × 1 hour per airport/air carrier].

TSA is currently proceeding with RT pilots at approximately 10-20 airports. TSA requires potential Sponsoring Entities seeking to participate in Registered Traveler to submit a Plan of Operations, including a Validation and Verification Report, which demonstrates how the potential Sponsoring Entities' operations comply with TSA-issued Registered Traveler standards. TSA estimates that approximately 20 potential Sponsoring Entities will submit a Plan of Operations and that it will take each entity 40 hours to prepare the Plan. Therefore, TSA estimates the total hour burden for entities submitting a Plan of Operations to be 800 hours [20 entities × 40 hours per airport].

Thus, TSA estimates the total hour burden for the participation approval process to be approximately 850 hours [50 hours for preparation and submittal of a Statement of Interest (50 airports/air carriers × 1 hour per airport/air carrier) + 800 hours for preparation and submittal of a Plan of Operations (20 airports/air carriers × 40 hours per airport/air carrier].

TSA estimates that expanding the Registered Traveler Pilot Program's information collection to include companies wishing to serve as service providers and airports wishing to participate will add a maximum of $2,400,000 to the cost burden. In order to prepare the Plan of Operations, airports will likely require the services of a certified public accountant to complete the Validation and Verification Report for their vendors. TSA estimates that it will cost about $200,000 per company and that between 6 and 12 vendor companies will participate in Registered Traveler. Built into this $200,000 figure is the cost per company to conduct a CHRC, which TSA estimates to be $750.00 ($30.00 per individual CHRC × 12 individuals per company). Therefore, TSA estimates a total burden cost ranging between $1,200,000 [for 6 companies ($200,000 per company × 6 companies)] and $2,400,000 [for 12 companies ($200,000 × 12 companies)].

Issued in Arlington, Virginia, on July 12, 2006.
Peter Pietra,
Director of Privacy Policy and Compliance.

[FR Doc. E6-11346 Filed 7-17-06; 8:45 am]

BILLING CODE 9110-05-P